DEPARTMENT OF JUSTICE

Office Management Division; Agency Information Collection Activities: Proposed Collection; Comments Requested

ACTION: 30-Day Notice of Information Collection Under Review: Extension of currently approved collection, Department of Justice Federal Coal Lease Review Information.

The Department of Justice (DOJ), Justice Management Division (JMD) has submitted the following information collection request to the Office of Management and Budget (OMB) for review and approval in accordance with the Paperwork Reduction Act of 1995. The proposed information collection is published to obtain comments from the public and affected agencies. This proposed information collection was previously published in the Federal Register on June 10, 2002, Volume 67, Number 111, Pages 39743-39744 allowing for a 60-day comment period.

The purpose of this notice is to allow for an additional 30 days for public comment until [Insert]. This process is conducted in accordance with 5 CFR 1320.10. Written comments and/or suggestions regarding the items contained in this notice, especially the estimated public burden and associated response time, should be directed to the Office of Management and Budget, Office of Information and Regulatory Affairs, Attention: Department of Justice Desk Officer, Washington, DC 20530. Additionally, comments may be submitted to OMB via facsimile to 202-395-5806. Written comments or suggestions from the public and affected agencies concerning the proposed collection of information are encouraged. Your comments should address one or more of the following points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technical collection techniques or other forms of information technology, e.g., permitting electronic submission of responses.

Overview of this information collection:

(1) Type of Information Collection: Extension of currently approved collection.

(2) Title of the Form/Collection: Department of Justice Federal Coal Lease Review Information.

(3) Agency form number, if any, and the applicable component of the Department of Justice sponsoring the collection: Form Number(s): ATR-139; ATR-140. Antitrust Division, Department of Justice.

(4) Affected public who will be asked or required to respond, as well as a brief abstract: Primary: Business or other for profit. Other: None. Abstract: the Department of Justice evaluates the competitive impact of issuances, transfers and exchanges of Federal coal leases. These forms seek information regarding a prospective coal lessee's coal reserves subject to the Federal lease. The Department uses this information to determine whether the coal lease transfer is consistent with the antitrust laws.

(5) An estimate of the total number of respondents and the amount of time estimated for an average respondent to respond: 20 responses per year at two hours per response.

(6) An estimate of the total public burden (in hours) associated with the collection: 40 annual burden hours.

If additional information is required contact: Robert B. Briggs, Department Clearance Officer, Information Management and Security Staff, Justice Management Division, United States Department of Justice, Patrick Henry Building, Suite 1600, 601 D Street, NW., Washington, DC 20530.

Dated: August 12, 2002.
Robert B. Briggs,
Department Clearance Officer, United States Department of Justice.

[FR Doc. 02-20718 Filed 8-14-02; 8:45 am]

BILLING CODE 4410-13-M